DEPARTMENT OF ENERGY

Agency Information Collection Extension

AGENCY: U.S. Department of Energy.

ACTION: Notice and Request for Comments.

SUMMARY: The Department of Energy (DOE), pursuant to the Paperwork Reduction Act of 1995), has obtained emergency approval of an information collection request with the Office of Management and Budget (OMB). In order to obtain OMB's approval for the next three years, comments are now invited on: (a) Whether the collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before January 26, 2010. If you anticipate difficulty in submitting comments within that period, contact the person listed below as soon as possible.

ADDRESSES: Written comments may be sent to Tony Johnson, Program Analyst, Department of Energy, 1000 Independence Avenue, Washington, DC 20585 or by fax at 202-586-0573 or by e-mail at Tony.Johnson@Hq.Doe.Gov.

FOR FURTHER INFORMATION CONTACT: Requests for additional information or copies of the information collection instrument and instructions should be directed to Tony Johnson as described above in the address section.

SUPPLEMENTARY INFORMATION: This information collection request contains: (1) OMB No. 1910-5142; (2) Information Collection Request Title: Recovery Act Reviewer Web site; (3) Type of Review: New; (4) Purpose: This website site uses approximately 30 information fields to ask for the biographical information, educational background, and area of specialty of potential reviewers of financial assistance proposals under the American Recovery and Reinvestment Act of 2009. DOE will then use the information to select reviewers; (5) Annual Estimated Number of Respondents: 2000; (6) Annual Estimated Number of Total Responses: 2000; (7) Annual Estimated Number of Burden Hours: 300; (8) Annual Estimated Reporting and Recordkeeping Cost Burden: 0.

Statutory Authority: Department of Energy Organization Act, Public Law 95-91, Section 5315, title 5, August 4, 1977, which vests the Secretary of Energy with the executive direction and management functions, authority, and responsibilities for the Department.

Issued in Washington, DC on November 20, 2009.
Ingrid Kolb,
Director, Office of Management, Office of Management—MA-1.1.

[FR Doc. E9-28395 Filed 11-25-09; 8:45 am]

BILLING CODE 6450-01-P